FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 21, 2011.

A. Federal Reserve Bank of Philadelphia (William Lang, Senior Vice President) 100 North 6th Street, Philadelphia, Pennsylvania 19105-1521:

1. Patriot Financial Partners, GP, L.P.; Patriot Financial Partners, L.P.; Patriot Financial Partners Parallel, L.P.; Patriot Financial Partners, GP, LLC; Patriot Financial Managers, L.P.; Patriot Financial Manager, LLC, and Ira M. Lubert, W. Kirk Wycoff and James J. Lynch, all of Philadelphia, Pennsylvania; to acquire voting shares of Porter Bancorp, Inc., and thereby indirectly acquire voting shares of PBI Bank, both in Louisville, Kentucky.

B. Federal Reserve Bank of Dallas (E. Ann Worthy, Vice President) 2200 North Pearl Street, Dallas, Texas 75201-2272:

1. Carl W. Ellis, Imperial Beach, California, individually; Carl W. Ellis; Linda Ellis McGarraugh, and Benjamin Drew Ellis, II, both of Perryton, Texas, as a group acting in concert; and Timothy Rodgers Ellis, Big Spring, Texas; Kenneth Ellis, Austin, Texas; and Donald Smith Ellis, Amarillo, Texas, as a group acting in concert to acquire voting shares of FirstPerryton Bancorp, Inc., Perryton, Texas, and thereby indirectly acquire voting shares of FirstBank Southwest, Amarillo, Texas.

Board of Governors of the Federal Reserve System, September 1, 2011.
Robert deV. Frierson,
Deputy Secretary of the Board.

[FR Doc. 2011-22836 Filed 9-6-11; 8:45 am]

BILLING CODE 6210-01-P